DEPARTMENT OF HOMELAND SECURITY

Coast Guard

33 CFR Part 161

Automatic Identification System; Vessel Carriage Requirement

CFR Correction

In Title 33 of the Code of Federal Regulations, Parts 125 to 199, revised as of July 1, 2003, on page 565, in § 161.15, the last sentence of paragraph (b) is corrected to read as follows:

§ 161.15 Purpose and intent.

* * * * *

(b) * * * These reports are consolidated into three reports (sailing plan, position, and final).

[FR Doc. 04-55515 Filed 6-30-04; 8:45 am]

BILLING CODE 1505-01-D